DEPARTMENT OF COMMERCE

Foreign-Trade Zones Board

[B-18-2014]

Foreign-Trade Zone (FTZ) 247—Erie, Pennsylvania; Notification of Proposed Production Activity, GE Transportation, (Locomotives, Off-Highway Vehicles and Motors/Engines), Lawrence Park and Grove City, Pennsylvania

GE Transportation submitted a notification of proposed production activity to the FTZ Board for its facilities in Lawrence Park and Grove City, Pennsylvania within Subzones 247A and 247B. The notification conforming to the requirements of the regulations of the FTZ Board (15 CFR 400.22) was received on February 14, 2014.

GE Transportation already has authority to produce locomotives; off-highway vehicle wheels, inverters and brake systems; components, spare parts and subassemblies for locomotives and off-highway vehicles; drill equipment; marine equipment; stationary equipment; diesel locomotive engines; engine turbo chargers; power assemblies; other engine assemblies; and, engine components and spare parts within Subzones 247A and 247B. The current request would add finished products and foreign status materials/components to the scope of authority. Pursuant to 15 CFR 400.14(b), additional FTZ authority would be limited to the specific foreign-status materials/components and specific finished products described in the submitted notification (as described below) and subsequently authorized by the FTZ Board.

Production under FTZ procedures could exempt GE Transportation from customs duty payments on the foreign status materials/components used in export production. On its domestic sales, GE Transportation would be able to choose the duty rates during customs entry procedures that apply to the finished products in the existing scope of authority as well as: Tank assemblies; tank reservoirs; waste receptacles; head hitters; wiper arm mounting assemblies; wiper blades; wiper arms; blades; brass heater cylinders; air horn tubes; high pressure nozzles; wiper connecting rods; heating elements; photodiscs; armatures; ringer bells; wiper arm bases; and, motors (duty rate ranges from duty-free to 4%) for the foreign status materials/components noted below and in the existing scope of authority. Customs duties also could possibly be deferred or reduced on foreign status production equipment.

The materials/components sourced from abroad include: Salt; sodium bentonite powder; plaster of Paris; concrete mix; petroleum-based engine oil; lube oil; lubricating oil; petroleum jelly paste; corrosive preventative solvent; nitrogen cartridges; compressed nitrogen; carbon dioxide tire suppression; magnesium hydroxide; aluminum oxide; beta alumina powder; boehmite—aluminum hydroxide; sodium fluoride; aluminum chloride; sodium iodide; ferrous sulphide; sodium carbonate powder; saline solution; lithium hydroxide; bidistilled water; vinyl toluene; solvent and thinners; paint solvent; acetone; polycarbonate acid; first aid kits; preps based on carbon black; silica/borsilicate powder; acrylic and vinyl paints and varnishes; non-aqueous paints and varnishes; mastics; caulking compounds; rubber glaziers' putty; writing inks and other inks; organic composite solvents; cleaning fluids; bearing oil lubricants; contact grease; petroleum lubricants; lithium soap grease; molytec silicone lubricants; synthetic bearing grease; polyethylene glycol 400; adhesives; sealants; neoprene rubber adhesive sealants; epoxy adhesives; epoxy resins; signaling flares; red flares; brazing flux; solder flux; antox pickling paste; rust preventative lubricants; rust inhibiting compounds; monoammonium phosphates; fire extinguishing chemical agents; liquid tempilaq trichloroethelen; heavy-duty degreasers; engine cleaners; polyurethane activator catalysts; activators; refractory glue; sodium hexametaphosphate; liquid polymers; epoxy kits; epoxy; emersion epoxy; fiberglass tape; varnish; silicone fluid; liquid silicone; plastic tubing; PVC, plastic and plastic-threaded pipes; phenlolic tubes; thermoset plastic tubes; hose assemblies; hoses; tubes; Teflon® hoses; heat shrink tube sleeves; polyolefin heat shrink tubes; nylon tubes; flexible plastic hoses; nylon plastic pipes; vinyl floor mats; floor mats; console mats; non-skid mats; 3M™ walkway tape; Teflon® strips; seal plastic; insulators; indicator plates; plastic non-adhesive labels; lexan plastic lens strips; reverser sliders; tapes; cloth and treated glass cloth; thermal insulation; polyurethane foam; polyfoam insulation; plastic toilet seats; shipping containers; plastic shipping containers plastic canisters; plastic bags; plastic trays; light palettes; polyethylene inserts; scour pads; toilet dispenser covers; zinc-plated door handles; paper sheet holders; crew pack holders; operator cab card holders; plastic knobs; neoprene raw materials; rubber tape; NBR/PVC thermal insulation; neoprene protection blankets; rubber insulation strips; rubber hoses; radiator hoses; coolant hoses; Dacron®-reinforced rubber hoses; sand hoses; hoses; water hoses; insul ducts; V-belts; rubber belts; cog belts; rubber V-belts; rubber matting; floor cab material; window weather seals; rubber gaskets; plastic trunks and suitcases; aluminum cases; steel tool chests; steel tool boxes; tool carrying cases; veneer panels; blocks; wood crates; shipping crates; wood shipping skids; wooden crates; locomotive cribbing; wood studs; locomotive engine diesel covers; wood lead clamps; wood stop blocks; wood trays; battery liner blocks; corprene oil gaskets; gaskets; fuel sight gaskets; bearing housing gaskets; cork gaskets; paper towels; paper cloth; thermal paper rolls; cellulose towels; disposable towels; kim tech wipes; corrugated cardboard boxes; paperboard boxes; cardboard boxes; labels; paper gaskets; paper catalogs; paper documents; user manuals; paper instruction sheets; paperback books; hardcover books; photocopies; engineering drawings; wiring schematics; plastic decals; business cards; locotrol system catalogs; catalogs; twine; felt wicks; paper insulation; ropes; safety nets; polypropylene nets; cotton cording; insulating fitting; duct tape; flexible duct hoses; neoprene polyester fabric hoses; rayon V-belts; curtains; sacks and bags for packing; web slings; protective pads; cloth bags; hard hats; stones; abrasive cleaning discs; grinding wheel stones; emery discs; resurfacing stones; grinders; brush seaters; abrasive paper; polishing paper sets; sequin epoxy resin paper; alumina fiber insulation modules; polycrystalline alumina fiber mats; locomotive insulation stone wool; insulating wool; inorganic silicates thermal insulation; air brake washers; exhaust gas flange gaskets; intumescent fire seals; graphite gaskets; grafoil gaskets; TCB alumina spacers; beta alumina space tubes; alumina rods; beta alumina tubes; pressing ceramic rings; ceramic gaskets; ceramic sheets; glass tubes; glassing; sliding glass; mirrors; reflective mirrors; inspection mirrors; indicator lamp glass lenses; glass tubes; frosted light glass; lenses; glass lenses; converse lenses; glass beads; fiberglass cords; fiberglass insulation material; glastic sheets; fiberglass insulation; heat blankets; insulation strips; fiberglass cloth; glass tape; fiberglass nuts and rods; brazing pieces; ballasts; iron powder; alloy steel raw plates; raw steel plates; raw steel sheets; steel; steel wear plates; steel plates; steel rods; threaded bars; round steel bars; wires; channel steel; steel angles; wire steel bindings; stainless steel sheets; locking wires; locking wire steel wires; steel wires; carbon steel sheets; round bars; mounting angles; steel angles; clamps; steel rail clamps; stainless steel tubes and pipes; steel alloy pipes; cold drawn steel pipes; steel tubes; pipes; oil pipes; rectangular steel pipes; spacer threaded steel pipes; steel flanges; stainless steel sleeves and pipe fittings; bridge steel foundation; structural steel; steel cantilever masts; reservoirs; main air reservoirs; locomotive tanks; retaining wires; steel mesh screens; journals; connecting links; handbrake chain assemblies; chain steel links; steel staples; wood screws; J-hook screws; self-tapping screws; steel rivets; stainless steel pins; springs; hot air blowers; steel waste receptacles; stainless steel sinks; folding locomotive sinks; toilet seat arrangements; toilet water tanks; followers; steel shackles; forged steel rings; steel handrail clamps; end rings; steel binding wires; copper wire, bars and raw materials; brass coils; disks; copper foil tape and tubes; rapid unloader copper tubes; copper tubing; fitting nipples; copper pins; escutcheon brass pins; brass rivets; brass toggle bolts; copper retaining rings; adjustable screws; brass machine screws; brass locking nits; nuts; copper studs; brass studs; double ended screws; cartridges; bronze rings; threaded copper inserts; chains; nickel granules; nickel powder; nickel alloy wire and strips; aluminum powder, flakes, pipes and angles; mute aluminum panels; aluminum plates and base plates; damping sheets; electric marker tape; aluminum doors, door assemblies, roof panels and floor panels; aluminum casks, drums, cans and rivets; pop rivets; lead wire, stamps and seals; zinc elbows and couplings; hand spring brakes; hole saws; aluminum slot files; slip joint pliers; tool sets; needle nose pliers; pipe cutters; wrenches; adapters; wrench sets; nut drives; ratchet sets; sockets; hammers; screwdrivers; piston holding tools; caulking gun nozzles; hand brake tool kits; gear puller sets; tool sets; hand tool sets; tool bags; dies; die sets; drill taps, inserts and bits; cobalt drill bit sets; drill driver bits; carbide end mills; cutter end mills; file segments; keys; steel castors; pneumatic cylinder raising cylinder assemblies; gas spring cylinders; dashpots; staples; signaling bells; locomotive clappers; air horn bells; clevis; lube oil inlet covers; outer steel seals; brazing heads; brazing head holders; piping diesel fuel lines; intake rotators; main governors; cylinder heads; camshaft covers; strongback castings; cylinder jackets; air intake manifolds; diesel engine orifices; rotators; vibration dampers; oil pans; pipe assemblies; piston crowns; diffusers; water discharge headers; exhaust manifolds; piston skirts; manifold blocks; piston pins; alignment rings; push rods; crankcase door assemblies; power assemblies; art rod assemblies; valve seats; rocker arm assemblies; high pressure fuel lines; diesel heads; rocker assemblies; strongbacks; crankcases; cylinder liners; engine fuel lines; fuel header assemblies; frame assemblies; nozzle rings; fire suppression system gas charge motors; cylinders; hydraulic motor assemblies; pneumatic actuators; air brake cylinders; hydraulic pumps; lube oil engine measuring pumps; pumps; vacuum pumps; air compressor or reciprocating pumps; scroll compressors; hand-operated pumps; global signaling fans; distance adapters; spinel liners; kiln feeder tubes; reflectors; polyester boots; spinnel discs; fresh air intakes; chest freezers; aftercoolers; air dryers; marine engine radiators; roll compactor steel cylinders; water filters; net filters; chlorinators; water tank screen assemblies; filter assemblies; sleeve assemblies; inlet drain valve piping kits; cover assemblies; cartridge weight scales; air guns; mechanical jacks; trolley hoists; universal joints; socket adapters; pneumatic barring over tools; hydraulic main bearing wrenches; hydraulic pump kits; pinion pullers; pin removal tools; tubing; connectors; puller clamp plates; credit card acceptors; automated fare collection systems; laptop computers; toughbooks; tablets; embedded controllers; desktop computers; network servers; processor servers; CPU embedded programmable servers; embedded box PCs; LCD monitors—keyboard enclosures; computer boards; floppy disks; encryption keys; network interface connectors; rocketport interface units; USB to RS-422 adapters; memory chip programmers; handheld barcode scanners; bank note validators; PCB cards; timer boards; electronic integrated circuits; sand traps; copper spring guides; air horns; locomotive air horns; heat sink cleaning systems; fire protection kits; fire protection hoses; locomotive heater assemblies; head tensioners; hydraulic presses; needle roller bearings; bearing inserts; gasket kits; O-ring kits; ball valve repair kits; steel oil seals; AC motors; motor assemblies; DC motor units; cab heater motors; spring charging motors; 3-phase AC motors; AC traction motors; evaporation motors; alternators; generator sets; diesel engine units; AC generator sets; transformers; magnets; magnet mounts; magnetic hardware trays; lithium batteries; battery maintenance kits; DGS downhole battery packs; closure caps; battery grates; current collectors; Ni-CD batteries; Ni-CD battery kits; C9 battery packs; nickel cadmium batteries; OCU finish batteries; lithium ion batteries; sodium hydride batteries; UPS batteries; metal halide batteries; storage batteries; sodium halide batteries; steel battery vents; battery vent caps; industrial vacuums; shop vacuums; solenoid switches; emergency lights; induction heaters; pinion heaters; resistance welders; resistance brazing tongs; water heater assemblies; drain valve heaters; immersion heaters; electric hot plates; heating elements; resistance panel heaters; heat blankets; brake resistors; heat resistance panels; telecom heaters; mica panel heaters; smart telephones; Ethernet base units; amplifiers; blank CDs; flash memory drives; flash cards; diagnostic boards; tags; solid state storage; solid state drove cartridges; cameras; radar sensors; LCR remote radios; operational control remotes; remote control units; radios; CRT monitors; LCD monitors; antennae; GPS simulation boards; GPS-RIM PCBs; rail safety electrologic; railroad traffic safety cases; HXP-3 crossing processors; VHLC systems; enclosures; cab signal generators; sure climb system-fall arrestors; PCB input-output; aluminum UCH LCR enclosures; cab signaling system PCBs; lamp driver modules; aluminum covers; SCX card guides; PCB processors; logic PCBs; alarms; fire suppression detectors; fire alarm modules; heatsink; connection assemblies; silicone keypads; capacitors; tantalum capacitors; resistors; panels; resistor kits; snubber assemblies; rheiostats; potentiometers; varistors; resistor holders; base supports; copper resistor plates; potentiometer adjusters; PCBs; impregnated plastic boards; fuses; load bank fuses; circuit protectors; knife switches; 60A interrupters; voltage isolators; ground blocks; surge protectors; spark arrestors; circuit breakers; breaker backdoors; motor starter panels; sockets; fittings; lamp holders; lamp assemblies; coaxial connector sets; connectors; magnetic antenna mounts; crimp rings; motor control modules; motor control panels; compressor motor panels; steel electronic cases; case assemblies; fiberglass consoles; control group weldments; case weldments; weldments; receptacle enclosures; locotrol panel assemblies; panels; VHLC PCBs; translator input/output PCBs; lamps; headlights; filament bulbs; locomotive shutter assemblies; headlight box assemblies; globe guards; zener diodes; locomotive electrical kits; NPN transistors; transistors; silicone transistors; unmounted transistors; white light assemblies; 120VAC pilot lights; LED lamps; digital isolators; quartz oscillators; LED lens holders; IGBT module housings; IGBT housing covers; LED retaining rings; gate drive circuits; shields; bases; line driver integrated circuits; microprocessors; covers; electronic CPU control units; VIM processors; CPU circuit cards; SRAM memory cards; SDRAM IC, SRAM memory cards integrated circuit amplifiers; gate array integrated circuits; PHE outlet pipe assemblies; analog IC; voltage-regulator, power-management and programmable-logic IC; integrated circuits; contactor tips for controllers; axle pulse generators; HXP-3 PCB assemblies; signal generator subtone converters; speed sensors; turbo speed sensors; sensors; traction motor speed sensors; axle generators; current transducers; magnetic pickup sensors; serial data boards; memory modules; copper winding wires; winding wire magnets; coaxial cables; cables; antenna cables; locomotive wire harnesses; kablo cables; harnesses; AESS kits; auxiliary light arrangement conduit assemblies; telecommunications cables; CMU Ethernet cables; telephone cables; arcnet-ethernet cables; conductors; cable displays; carbon brushes; filter brush kits; carbon brush generators; brushes; traction motor brushes; insulation sleeving; insulator bushing; electrical bushing; insulation; electrical insulators; insulator mica blocks; splice piece insulators; insulator kits; plastic insulators; ceramic insulator leads; thermal pad insulators; ceramic bushings; ferrite chokes; insulator assemblies; mica insulation; insulating shields; fiberglass guards; glastic insulators; insulating collars; mica insulating plates; insulator fittings; mica insulation segments; U-piece insulated fittings; diesel electric locomotives; evolution locomotives; truck assemblies; locomotive truck frames; locomotive axles; axles; flex couplers; steek pins; coupler release levers; knuckles; draft gear assemblies; coupler wear plates; couplers; yokes; spacers; hubs; gears; steel yaw dampeners; machined castings; draft gear links; wear plates; brass couplings; crossing gate kits; gate rail kits; mounting kits; cantilever gates; CTS-2 switch machines; railway cantilevers; signal masts; rack interfaces; tempo system output boards; cantilever arms; gate mechanism assemblies; railway gate arms; CTS-2 steel plates; retarder assemblies; OHV brake retarders; OHV transmissions; AC motorized wheels; torque tubes; brake hubs; locomotive transmissions; carrier castings; OHV carrier assemblies; hub cap kits; longitudinal shafts; ring end torque tubes; truck steel plugs; ring end steel forgings; steel carts; tool cart kits; steel casters; laser quartz lenses; optical lens caps; display enhancement filters; plastic, mounted and locomotive lenses; optical pulse generators; boroscopes; pulse generators; meteorological psychrometers; air flow indicators; drill fixtures; vinyl stencils; carbide scribers; digital micrometers; inside micrometers; hand-held caliper gauges; Vernier calipers; turbo internal micrometers; digital micrometers; micrometer sets; tape measures; grind gauges; valve checker tools; standard rulers; digital check gauges; metric scales; feeler gauges; handle line up gauges; oxygen masks; water temperature gauges; manifold temperature sensors; digital pyrometer kits; cable sensor kits; fire protection kits; thermal spot detectors; thermal spot sensors; electrical thermo-hygrometers; wireless weather stations; motor bearing detectors; barometers; PCB sensors; HWB thermometers; thermal scanner assemblies; HWD pyroelectric detectors; scanner covers; thermowell fittings; aluminum brackets; tube alignment fixtures; HWB cabinets; sensor brackets; aluminum panels; battery trays; coolant level sensor kits; fuel tank monitors; fuel level electrical sensors; fuel gauges; fuel tank control units; melt level indicators; electric fuel monitoring panels; water-fuel sensors; optical level sensors; dip sticks; pressure sensors; pressure indicators; air pressure gauges; air pressure transducers; MR1 sensors; engine fuel transducers; lube oil pressure sensors; NoX sensors; pneumatic air brake modules; transducer assemblies; flow meters; metal debris sensors; gas flow meters; digital manometers; pressure line adaptors; fuel condition sensor mounts; fuel gauge covers; fuel sensor pipe assemblies; NH3 gas analyzers; oxygen level gas analyzers; digital gas analyzers; spot sensors; carbide dioxide analyzers; soot sensors; leak detectors; battery spectrometers; spectrum monitors; balometer kits; dissolved solids meters; data viewer sensor kits; stations; manifolds; digital hybrid interfaces; heated sample lines; power flow meters; load electrical meters; RPM gauges; fitbits; SWC RCI wheel sensors; high speed counters; train odometers; hub odometers; RPM sensors; wheel counter kits; digital odometers; speedometers; speed sensors; speed indicators; engine speed sensors; wheel sensors; tachometer sensors; diesel sensors; locomotive converter speed indicator boards; handheld tachometers; amplifier isolation panels; speed signal amplifiers; clamping rings; speedometer modules; odometer plates; multimeters; digital, handheld and fluke multimeters; dart digital display units; fluke digital multimeters; locomotive ammeters; analog meters; relay-reset limitors; load meters; power brake ammeters; feedback modules; current module event recorders; current monitors; brake current ammeters; digital ammeters; voltmeters; floe meter monitors; test boxes; locotrol test fixtures; current transducers; amp loadmeters; strain gauges; circuit monitoring modules; AC current probes; copper shunts; locomotive ground detection panels; flash-over protection panels; data acquisition units; electrical impulse panels; digital ohmmeters; transductors; AC data loggers; high voltage testers; megohm testers; lon circuit boards; electronic system periodic testers; spectrum analyzers; hipot test stations; electromagnetic test kits; arbitrary waveform generators; voltage measuring boards; distance sensors; laser motion sensors; electronic levels; torque wrench testers; valve seat seal tests; event recorder modules; function modules; cards; serial cards; ring taper gauges; HAS detector probes; modules; tester interface boards; dial indicator contact points; aluminum enclosures; system temperature sensors; testing panels; thermostat remotes; heater thermostats; voltage regulator 240V scoop; AC control boards; mini-regulators; thermostat seals; hour meters; PCB timer train separation displays; vital timers; time delay modules; timers; hour meter brackets; seat swivels; locomotive seats; swivel seats; seat cushion assemblies; air adjust seats; folding seats; tool stools; back seat protectors; arm rests; pedestal seats; storage racks; computer steel shelves; steel shelves; aluminum cases; mounting arms; steel shelf brackets; pillows and cushions; cab lights; wall lighting fixtures; lamp fixtures; locomotive switch kits; headlight enclosures; ditch light assemblies; warning lights; lamp glass globes; lexan lenses; LED light assembly gaskets; diffusers; light fixture lenses; support steel; ditch light housings; lens door assemblies; headlight shell; lamp shades; dome light panels; doors; aluminum houses; instrument houses; steel wayside houses; pipe wire brushes; wire brushes; paint pens; and, electric ignition units (duty rate ranges from duty-free to 20%). The request indicates that inputs classified under HTSUS Chapter 32 and HTSUS Subheadings 4202.12, 5207.10, 5602.90, 5603.94, 5607.50, 5608.19, 5609.00, 5806.31, 5909.00, 5910.00, 6303.92, 6305.20, 6307.90, 7019.19, 7019.51, and 9404.90 will be admitted to the zone in privileged foreign status (19 CFR 146.41), thereby precluding inverted tariff benefits on such items.

Public comment is invited from interested parties. Submissions shall be addressed to the Board's Executive Secretary at the address below. The closing period for their receipt is April 7, 2014.

A copy of the notification will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: February 20, 2014.
Andrew McGilvray,
Executive Secretary.

[FR Doc. 2014-04224 Filed 2-25-14; 8:45 am]

BILLING CODE 3510-DS-P